DEPARTMENT OF AGRICULTURE

Agricultural Marketing Service

[AMS-FGIS-21-0017]

United States Standards for Wheat

AGENCY: Agricultural Marketing Service, USDA.

ACTION: Notice; request for information.

SUMMARY: The United States Department of Agriculture's (USDA) Agricultural Marketing Service (AMS) is seeking comments from the public regarding the United States Standards for Wheat under the United States Grain Standards Act (USGSA). To ensure that standards and official grading practices remain relevant, AMS invites interested parties to comment on whether the current wheat standards and grading practices need to be changed.

DATES: We will consider comments we receive by July 19, 2021.

ADDRESSES: Interested persons are invited to submit written comments concerning this notice. All comments must be submitted through the Federal e-rulemaking portal at http://www.regulations.gov and should reference the document number and the date and page number of this issue of the Federal Register. Instructions for submitting and reading comments are detailed on the site. All comments submitted in response to this notice will be included in the record and will be made available to the public. Please be advised that the identity of the individuals or entities submitting comments will be made public on the internet at the address provided above.

FOR FURTHER INFORMATION CONTACT: Barry Gomoll, USDA, AMS; Telephone: (202) 720-8286; email: Barry.L.Gomoll@usda.gov.

SUPPLEMENTARY INFORMATION: Section 4 of the USGSA (7 U.S.C. 76(a)) grants the Secretary of Agriculture the authority to establish standards for wheat and other grains regarding kind, class, quality, and condition. The wheat standards, established by USDA on August 1, 1917, were last revised in 2013 (78 FR 27857) and appear in USGSA regulations at 7 CFR 810.2201-2205. The standards facilitate wheat marketing and define U.S. wheat quality in the domestic and global marketplace. The standards define commonly used industry terms; contain basic principles governing the application of standards, such as the type of sample used for a particular quality analysis; define the basis of determination for grading factors; and specify grades and grade requirements. Official procedures for determining grading factors are provided in the Grain Inspection Handbook, Book II, Chapter 13, “Wheat.” Together, the grading standards and official procedures allow buyers and sellers to communicate quality requirements, compare wheat quality using equivalent forms of measurement, and assist in price discovery.

FGIS grading and inspection services are provided through a network of Federal, State, and private laboratories that conduct tests to determine the quality and condition of wheat. These tests are conducted in accordance with applicable standards using approved methodologies and can be applied at any point in the marketing chain. Furthermore, the tests yield rapid, reliable, and consistent results. In addition, FGIS-issued certificates describing the quality and condition of graded wheat are accepted as prima facie evidence in all Federal courts. U.S. Standards for Wheat and the affiliated grading and testing services offered by FGIS verify that a seller's wheat meet specified requirements and ensure that customers receive the quality of wheat they purchased.

In order for U.S. standards and grading procedures for wheat to remain relevant, AMS is issuing this request for information to invite interested parties to submit comments, ideas, and suggestions on all aspects of the U.S. Standards for Wheat and official procedures.

Authority: 7 U.S.C. 71-87k.

Bruce Summers,
Administrator, Agricultural Marketing Service.

[FR Doc. 2021-08062 Filed 4-19-21; 8:45 am]

BILLING CODE P